DEPARTMENT OF AGRICULTURE

Cancellation of Indianapolis Grain Inspection & Weighing Service, Inc. Designation; Selection of Interim Provider; Opportunity for Designation in the Indianapolis, IN Area; Correction

AGENCY: Grain Inspection, Packers and Stockyards Administration, USDA.

ACTION: Notice; correction.

SUMMARY: The USDA, Grain Inspection, Packers and Stockyards Administration published a document in the Federal Register on October 31, 2012, concerning persons or governmental agencies interested in providing official services in the area presently assigned to Indianapolis to submit an application for designation. The document contained an incorrect date.

FOR FURTHER INFORMATION CONTACT: Eric Jabs, (816) 659-8408 or Eric.J.Jabs@usda.gov.

Correction

In the Federal Register of October 31, 2012, in FR Doc. 2012-26824, on page 65856, under section Opportunity for Designation make a correction to the ending date. Correct the ending date from “December 31, 2016” to show “December 31, 2015”.

Dated: October 31, 2012.
Larry Mitchell,
Administrator, Grain Inspection, Packers and Stockyards Administration.

[FR Doc. 2012-27079 Filed 11-5-12; 8:45 am]

BILLING CODE 3410-KD-P